Title 3—

The President

Executive Order 14107 of September 6, 2023

Exemption of Paul H. Maurer From Mandatory Separation

By the authority vested in me as President by the Constitution and the laws of the United States of America, including section 8425(e) of title 5, United States Code, it is hereby ordered as follows:

Section 1. Consistent with section 8425(e) of title 5, United States Code, I hereby determine that the public interest requires that Paul H. Maurer, the current Special Agent in Charge of the George W. Bush Protective Detail in Dallas, Texas, shall be exempted from automatic separation under section 8425(b)(1) of title 5, United States Code. The Director of the United States Secret Service retains all applicable supervisory authority over Special Agent Maurer, including authorities vested in him pursuant to chapter 75 of title 5, United States Code.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 6, 2023.

[FR Doc. 2023-19798

Filed 9-11-23; 8:45 am]

Billing code 3395-F3-P